DEPARTMENT OF TRANSPORTATION

Surface Transportation Board

[STB Finance Docket No. 34224]

Indiana Southern Railroad, Inc—Trackage Rights Exemption—Norfolk Southern Railway Company

Norfolk Southern Railway Company (NSR), pursuant to a written trackage rights agreement entered into between NSR and Indiana Southern Railroad, Inc. (ISRR), has agreed to grant non-exclusive local trackage rights to ISRR over NSR's rail line between a point near Newburgh, IN, milepost 0.0, and Lynnville Mine, IN, milepost 21.9, a distance of approximately 21.9 miles.

The transaction was scheduled to be consummated on or shortly after July 1, 2002, the effective date of the exemption (7 days after the exemption was filed).

The purpose of the trackage rights is to allow ISRR to enhance service for certain shippers and provide more efficient and economical routings and service for their traffic.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

The notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34224, must be filed with the Surface Transportation Board, 1925 K Street, NW., Washington, DC 20423-0001. In addition, a copy of each pleading must be served on Louis E. Gitomer, Ball Janik LLP, 1455 F Street, NW., Suite 225, Washington, DC 20005.

Board decisions and notices are available on our website at “http://WWW.STB.DOT.GOV.”

Decided: July 1, 2002.
By the Board, David M. Konschnik, Director, Office of Proceedings.
Vernon A. Williams,
Secretary.

[FR Doc. 02-16991 Filed 7-8-02; 8:45 am]

BILLING CODE 4915-00-P